DEPARTMENT OF ENERGY

Federal Energy Regulatory Commission

[Docket Nos. RP00-411-001, and RP01-44-003]

Iroquois Gas Transmission System, L.P.; Notice of Compliance Filing

December 17, 2001.

Take notice that on December 10, 2001, Iroquois Gas Transmission System, L.P. (Iroquois) tendered its filing in compliance with the Commission's November 8, 2001 Order on Compliance Filing.

Iroquois states that copies of its filing have been mailed to all firm customers, interruptible customers, state regulatory commissions and other interested parties.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-31445 Filed 12-19-01; 8:45 am]

BILLING CODE 6717-01-P